DEPARTMENT OF HOMELAND SECURITY

Coast Guard

33 CFR Part 117

[Docket No. USCG-2018-0835]

Drawbridge Operation Regulation; Hackensack River, Jersey City, NJ

AGENCY: Coast Guard, DHS.

ACTION: Notice of deviation from drawbridge regulation.

SUMMARY: The Coast Guard has issued a temporary deviation from the operating schedule that governs the Hack-Freight Railroad Bridge across the Hackensack River, mile 3.1, at Jersey City, New Jersey. The deviation is necessary to replace four counterweight sheave assemblies on the west tower of the bridge. This temporary deviation allows the bridge to remain in the closed-to navigation position during the construction period.

DATES: This deviation is effective from 6 a.m. on September 30, 2018, until 6 a.m. on October 7, 2018.

ADDRESSES: The docket for this deviation, USCG-2018-0835, is available at http://www.regulations.gov. Type the docket number in the “SEARCH” box and click “SEARCH.” Click on Open Docket Folder on the line associated with this deviation.

FOR FURTHER INFORMATION CONTACT: If you have questions on this temporary deviation, call or email Judy K. Leung-Yee, Bridge Management Specialist, First District Bridge Branch, U.S. Coast Guard; telephone 212-514-4336, email Judy.K.Leung-Yee@uscg.mil.

SUPPLEMENTARY INFORMATION: The owner of the bridge, Consolidated Rail Corporation, requested a temporary deviation in order to replace four counterweight sheave assemblies on the west tower of the bridge.

The Hack-Freight Railroad Bridge across the Hackensack River, mile 3.1, at Jersey City, New Jersey is a vertical lift bridge with a vertical clearance of 11 feet at mean high water and 16 feet at mean low water in the closed position. The existing drawbridge operating regulation is listed at 33 CFR 117.723(c).

This temporary deviation will allow the Hack-Freight Railroad Bridge to remain in the closed position from 6 a.m. on September 30, 2018, to 6 a.m. on October 7, 2018. The waterway is transited by recreational and commercial vessels. Coordination with known waterway users has indicated no objection to the closure of the draw. Vessels able to pass through the bridge in the closed position may do so at anytime. The bridge will not be able to open for emergencies. There is no immediate alternate route for vessels to pass.

The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 21, 2018.
C.J. Bisignano,
Supervisory Bridge Management Specialist, First Coast Guard District.

[FR Doc. 2018-21048 Filed 9-26-18; 8:45 am]

BILLING CODE 9110-04-P